DEPARTMENT OF EDUCATION

National Assessment Governing Board; Meeting

AGENCY: National Assessment Governing Board; Education.

ACTION: Notice of open meeting and partially closed meetings.

SUMMARY: This notice sets forth the schedule and proposed agenda of a forthcoming meeting of the National Assessment Governing Board. This notice also describes the functions of the Board. Notice of this meeting is required under section 10(a)(2) of the Federal Advisory Committee Act. This document is intended to notify the general public of their opportunity to attend. Individuals who will need special accommodations in order to attend the meeting (i.e., interpreting services, assistive listening devices, materials in alternative format) should notify Munira Mwalimu at 202-357-6938 or at Munira.Mwalimu@ed.gov no later than May 5, 2003. We will attempt to meet requests after this date, but cannot guarantee availability of the requested accommodation. The meeting site is accessible to individuals with disabilities.

DATES: May 15-May 17, 2003.

TIMES: May 15: Assessment Development Committee: closed session—12 p.m. to 2:30 p.m.; Ad Hoc Committee on Background Questions: open session—2:30 p.m. to 4:30 p.m.; Ad Hoc Committee on NAEP Sampling Studies: open session—2:30 p.m. to 4:30 p.m.; Executive Committee: open session—5 p.m. to 6 p.m.; closed session—6 p.m. to 7 p.m.

May 16: Full Board: open session—8:30 a.m. to 10 a.m.; Assessment Development Committee: closed session—10 a.m. to 10:45 a.m.; open session—10:45 a.m. to 12 p.m.; Committee on Standards, Design, and Methodology: open session—10 a.m. to 12 p.m.; Reporting and Dissemination Committee: open session—10 a.m. to 12 p.m.; Full Board: closed session—12 p.m. to 2 p.m.; open session—2:15 p.m. to 4 p.m.

May 17: Nominations Committee: closed session—7:30 a.m. to 9 a.m.; Full Board: open session—9 a.m. to 11:30 a.m.; closed session—11:30 a.m. to 12 p.m.

Location: Fairmont Kansas City, 401 Ward Parkway, Kansas City, Missouri 64112.

FOR FURTHER INFORMATION CONTACT: Munira Mwalimu, Operations Officer, National Assessment Governing Board, 800 North Capitol Street, NW., Suite 825, Washington, DC 20002-4233, Telephone: (202) 357-6938.

SUPPLEMENTARY INFORMATION: The National Assessment Governing Board is established under section 412 of the National Education Statistics Act of 1994, as amended.

The Board is established to formulate policy guidelines for the National Assessment of Educational Progress (NAEP). The Board's responsibilities include selecting subject areas to be assessed developing assessment objectives, student achievement levels for each grade and subject tested developing guidelines for reporting and disseminating results, and developing standards and procedures for interstate and national comparisons.

On May 15, the Assessment Development Committee will meet in closed session from 12 p.m. to 2:30 p.m. to review secure test items for the National Assessment of Educational Progress (NAEP) Long-term Trend Reading and Mathematics Assessments. The meeting must be conducted in closed session because disclosure of proposed test items from the NAEP Long-term Trend Assessments would significantly impede implementation of the NAEP program and is there protected by exemption 9(B) of section 552b(c) of title 5 U.S.C.

The Executive Committee will meet in open session on May 15 from 5 p.m. to 6 p.m. This committee will them meet in closed session from 6 p.m. to 7 p.m. for two purposes. First, the committee will receive independent government cost estimates on the impact of changing the schedule for future National Assessment of Educational Progress (NAEP) assessments. This part of the meeting must be conducted in closed session because public disclosure of this information would likely have an adverse financial effect on the NAEP program. The discussion of this information would be likely to significantly impede open session. Such matters are protected by exemption 9(B) of section 552b(c) of title 5 U.S.C.

Second, in the closed session the Executive Committee will discuss a personnel action pertaining to a Board staff matter. This discussion pertains solely to internal personnel rules and practices of an agency and will disclose information of a personal nature where disclosure would constitute an unwarranted invasion of personal privacy. As such, the discussion is protected by exemptions 2 and 6 of section 552b(c) of title 5 U.S.C.

On May 16, the full Board will meet in open session from 8:30 a.m. to 10 a.m. The Board will approve the agenda and hear welcoming remarks from Board member and State Legislator of Topeka, Kansas. The Board will then receive the Executive Director's report and an update on the work of the National Center for Education Statistics (NCES) from the Associate Commissioner of NCES, Peggy Carr.

From 10 a.m. to 12 p.m. on May 16, the Board's standing committees—the Assessment Development Committee; the Committee on Standards, Design, and Methodology; and the Reporting and Dissemination Committee—will meet in open session, with one exception. The Assessment Development Committee will meet in closed session from 10 a.m. to 10:45 a.m. to review and discuss secure test items for the National Assessment of Educational Progress (NAEP) 2001 U.S. History Assessment. The meeting must be conducted in closed session because disclosure of proposed test items from the 2001 U.S. History Assessment would significantly impede implementation of the NAEP program and is therefore protected by exemption 9(B) of section 552b(c) of title 5 U.S.C.

The full Board will meet in closed session on May 16 from 12 p.m. to 2 p.m. to receive results of the 2002 NAEP Reading and Writing Assessments and to be briefed on sampling and data analysis for the 2002-2003 NAEP. This session must be closed because the results of the Reading and Writing Assessments are under development and have not been released to the public, and results of the sampling and data analysis are preliminary data that have not been disclosed to the pubic. Premature disclosure of this information would significantly frustrate implementation of a proposed agency action if conducted in open session. Such matters are protected by exemption 9(B) of section 552b(c) of title 5 U.S.C.

The full Board will meet in open session on May 16 from 2 p.m. to 4 p.m. The Board will receive an update on the 2007 Reading Framework Project at 2:15 p.m. and then discuss the NAEP Background Question Framework from 3 p.m. to 4 p.m., when the session will adjourn.

On May 17, the Nominations Committee will meet in closed session from 7:30 a.m. to 9 a.m. to review and discuss nominations for Board membership. These discussions deal with the internal evaluation of potential nominees to the Board and the rating provided to each candidate by members of the committee. This information is of a personal nature, disclosure of which would constitute an unwarranted invasion of personal privacy. As such, the discussions are protected by exemptions 2 and 6 of section 552b(c) of title 5 U.S.C.

The full Board will meet in open session from 9 a.m. to 11:30 a.m. on May 17. The Board will receive an update on the NAEP 12th grade Commission. This presentation will be followed by a discussion on options for the structure of future Board meetings. Board actions on policies and committee reports are scheduled to take place between 10:30 a.m. and 11:30 a.m.

The Board will meet in closed session from 11:30 a.m. to 12 p.m. to receive nominations for Board membership from the Nominations Committee. This discussion pertains solely to internal personnel rules and practices of an agency and will disclose information of a personal nature where disclosure would constitute an unwarranted invasion of personal privacy. As such, the discussion is protected by exemptions 2 and 6 of section 552b(c) of title 5 U.S.C.

The May 17 session of the Board meeting will adjourn at 12 noon.

Summaries of the activities of the closed sessions and related matters that are informative to the public and consistent with the policy of section 5 U.S.C. 552b(c) will be available to the public within 14 days of the meeting. Records are kept of all Board proceedings and are available for public inspection at the U.S. Department of Education, National Assessment Governing Board, Suite #825, 800 North Capitol Street, NW., Washington, DC, from 9 a.m. to 5 p.m. eastern standard time.

Dated: April 23, 2003.
Charles E. Smith,
Executive Director, National Assessment Governing Board.

[FR Doc. 03-10431 Filed 4-28-03; 8:45 am]

BILLING CODE 4000-01-M